ENVIRONMENTAL PROTECTION AGENCY

40 CFR Parts 52 and 81

[Docket ID No. R10-OAR-2005-WA-0001; FRL-7929-6]

Approval and Promulgation of State Implementation Plans: Washington; Spokane Carbon Monoxide Nonattainment Area; Designation of Areas for Air Quality Planning Purposes

AGENCY: Environmental Protection Agency (EPA).

ACTION: Proposed rule.

SUMMARY: On November 29, 2004, the State of Washington submitted a carbon monoxide (CO) maintenance plan for the Spokane CO nonattainment area to EPA for approval. The State concurrently requested that EPA redesignate the Spokane CO nonattainment area to attainment for the National Ambient Air Quality Standard (NAAQS) for CO. In this action, EPA is proposing approval of the maintenance plan and redesignation of the Spokane CO nonattainment area to attainment.

DATES: Written comments must be received by July 29, 2005.

ADDRESSES: Submit comments, identified by Docket ID No. R10-OAR-2005-WA-0001, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• Mail: Connie Robinson, Office of Air, Waste, and Toxics, Environmental Protection Agency, Mail code: AWT-107, 1200 Sixth Ave., Seattle, Washington 98101.

• Hand Delivery: EPA, Region 10, Service Center, 14th Floor, 1200 Sixth Ave., Seattle, Washington 98101; Attention: Connie Robinson, Office of Air, Waste and Toxics, AWT-107. Such deliveries are only accepted during normal hours of operation, and special arrangements should be made for deliveries of boxed information.

Please see the direct final rule which is located in the Final Rules and Regulations section of this Federal Register for detailed instructions on how to submit comments.

FOR FURTHER INFORMATION CONTACT: Connie L. Robinson, EPA, Region 10, Office of Air, Waste, and Toxics (AWT-107), Seattle, Washington, (206) 553-1086, or by e-mail at robinson.connie@epa.gov.

SUPPLEMENTARY INFORMATION: In the rules section of this Federal Register, EPA is approving the State's SIP submittal as a direct final rule without prior proposal because the Agency views this as a noncontroversial submittal and anticipates no adverse comments. A detailed rationale for the approval is set forth in the direct final rule. If EPA receives no adverse comments in response to this action, no further activity is contemplated.

If EPA receives adverse comments, the Agency will withdraw the direct final rule and will address all public comments we receive in a subsequent final rule based on this proposed rule. EPA will not institute a second comment period. Any parties interested in commenting on this action should do so at this time. Please note that if we receive adverse comment on an amendment, paragraph, or section of this rule and if that provision may be severed from the remainder of the rule, we may adopt as final those provisions of the rule that are not the subject of an adverse comment.

For additional information, see the direct final rule which is located in the final rules and regulations section of this Federal Register.

Dated: June 20, 2005.
Julie Hagensen,
Acting Regional Administrator, Region 10.

[FR Doc. 05-12712 Filed 6-28-05; 8:45 am]

BILLING CODE 6560-50-P